ENVIRONMENTAL PROTECTION AGENCY

40 CFR Parts 52 and 81

[EPA-R09-OAR-2020-0309; FRL-10014-44-Region 9]

Finding of Failure To Attain the 2006 24-Hour Fine Particulate Matter Standards; California; Los Angeles-South Coast Air Basin

AGENCY: Environmental Protection Agency (EPA).

ACTION: Final rule.

SUMMARY: The Environmental Protection Agency (EPA) has determined that the Los Angeles-South Coast Air Basin nonattainment area failed to attain the 2006 24-hour fine particulate matter (“PM2.5”) national ambient air quality standards by the December 31, 2019 “Serious” area attainment date. This determination is based on ambient air quality monitoring data from 2017 through 2019. As a result of this determination, the State of California is required to submit a revision to the California State Implementation Plan (SIP) that, among other elements, provides for expeditious attainment within the time limits prescribed by regulation and provides for a five percent annual reduction in the emissions of direct PM2.5 or a PM2.5 plan precursor pollutant. We are also correcting an error in the table of California area designations for the 2006 PM2.5 national ambient air quality standards.

DATES: This rule is effective October 16, 2020.

ADDRESSES: The EPA has established a docket for this action under Docket ID No. EPA-R09-OAR-2020-0309. All documents in the docket are listed on the http://www.regulations.gov website. Although listed in the index, some information may not be publicly available, e.g., Confidential Business Information (CBI) or other information whose disclosure is restricted by statute. Certain other material, such as copyrighted material, is not placed on the internet and will be publicly available only in hard copy form. Publicly available docket materials are available through http://www.regulations.gov. Please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Ginger Vagenas, EPA Region IX, 75 Hawthorne St., San Francisco, CA 94105. By phone at 415-972-3964, or by email at Vagenas.Ginger@epa.gov.

SUPPLEMENTARY INFORMATION: Throughout this document, “we,” “us,” and “our” refer to the EPA.

Table of Contents

I. Background

II. Public Comments and Responses

III. Final Action

IV. Statutory and Executive Order Reviews

I. Background

On July 10, 2020 (85 FR 41479), the EPA proposed to determine that the Los Angeles-South Coast Air Basin (“South Coast”) Serious nonattainment area failed to attain the 2006 PM2.5 national ambient air quality standards (NAAQS) ¹ by the applicable attainment date of December 31, 2019. Our proposed determination was based on complete, quality-assured, and certified ambient air quality date for the 2017 to 2019 monitoring period. The South Coast 2006 PM2.5 NAAQS nonattainment area includes Orange County, the southwestern two-thirds of Los Angeles County, southwestern San Bernardino County, and western Riverside County.²

¹ In October 2006, the EPA revised the 24-hour NAAQS for fine particulate matter (particles with a diameter of 2.5 microns or less or PM2.5) (“2006 PM2.5 NAAQS”) to provide increased protection of public health by lowering its level from 65 micrograms per cubic meter (µg/m³) to 35 µg/m³. 71 FR 61144 (October 17, 2006). The EPA established both primary and secondary standards for the 2006 24-hour PM2.5 NAAQS. Primary standards provide public health protection, including protecting the health of “sensitive” populations such as asthmatics, children, and the elderly. Secondary standards provide public welfare protection, including protection against decreased visibility and damage to animals, crops, vegetation, and buildings. Since the primary and secondary standards for 24-hour PM2.5 are set at the same level, we refer to them herein using the singular “2006 PM2.5 NAAQS” or “2006 PM2.5 standard.”

² A precise description of the South Coast PM2.5 nonattainment area is contained in 40 CFR 81.305.

Our proposed rule provided background information on the effects of exposure to elevated levels of PM2.5, the designation and classification of the South Coast under the Clean Air Act (CAA) for the 2006 PM2.5 NAAQS, the plans developed by California to address nonattainment area requirements for the South Coast, the reclassification of the area from “Moderate” to “Serious,” and the related extension of the applicable attainment date to December 31, 2019.³

³ 85 FR 41479, 41480.

In our July 10, 2020 proposed rule, we also described the following: the statutory basis (i.e., CAA sections 179(c)(1) and 188(b)(2)) for the obligation on the EPA to determine whether an area's air quality meets the 2006 PM2.5 NAAQS; the EPA regulations establishing the specific methods and procedures to determine whether an area has attained the 2006 PM2.5 NAAQS; and the PM2.5 monitoring networks operated in the South Coast by the South Coast Air Quality Management District and the Pechanga Band of Luiseno Mission Indians of the Pechanga Reservation and related monitoring network plans.⁴ We also documented our previous review of the networks and network plans, the agencies' annual certifications of ambient air monitoring data, and our determination that 17 of the 18 monitoring sites within the South Coast produced valid design values for purposes of comparison with the 2006 PM2.5 NAAQS.⁵

⁴ Id. at 41480-41481.

⁵ Id. at 41481.

Under EPA regulations in 40 CFR 50.13 and in accordance with 40 CFR part 50, Appendix N, the 2006 PM2.5 NAAQS is met when the design value is less than or equal to 35.0 µg/m³. More specifically, the design value is the 3-year average of annual 98th percentile 24-hour average values recorded at each eligible monitoring site, and the 2006 PM2.5 NAAQS are met when the design value for the 24-hour standards at each such monitoring site is less than or equal to 35 µg/m³.

In our proposed rule, to evaluate whether the South Coast attained the 2006 PM2.5 NAAQS by the December 31, 2019 attainment date, we determined the 2017-2019 design values at each of the 18 PM2.5 monitoring sites for the 24-hour PM2.5 standard. See Table 1 of our July 10, 2020 proposed rule.⁶ Based on the valid design values at 17 of the sites, we found that two sites did not meet the 2006 PM2.5 NAAQS of 35 µg/m³ by the December 31, 2019 attainment date: the Compton site in Los Angeles County and the Mira Loma site in Riverside County. The 2019 24-hour design value site, i.e., the site with the highest design value based on 2017-2019 data, is the Compton site with a 2019 24-hour PM2.5 design value of 38 µg/m³.

⁶ Id. at 41482.

For the South Coast to attain the 2006 PM2.5 NAAQS by December 31, 2019, the 2019 design value (reflecting data from 2017-2019) at each eligible monitoring site in the South Coast must be equal to or less than 35 µg/m³. Because at least one site had 2019 design values greater than 35 µg/m³, we proposed to determine that the South Coast failed to attain the 2006 PM2.5 standard by the December 31, 2019 attainment date and described the CAA requirements that would apply if the EPA were to finalize the proposed finding of failure to attain.⁷ With today's action, we finalize this determination.

⁷ Id. at 41483.

In addition to our proposed finding of failure to attain, we proposed under CAA section 110(k)(6) to correct an error that we introduced into the table for California designations for the 2006 PM2.5 NAAQS in 40 CFR 81.305.⁸ In 2016, we reclassified the South Coast from Moderate to Serious for the 2006 PM2.5 standard, but we erroneously considered the lands of the Santa Rosa Band of Cahuilla Mission Indians in Riverside County to be part of the South Coast Moderate nonattainment area and revised the designation for those lands from unclassifiable/attainment to Serious nonattainment. We are finalizing our correction of this error by revising the table for California area designations for the 24-hour PM2.5 NAAQS to indicate the designation is unclassifiable/attainment for the lands of the Santa Rosa Band of Cahuilla Mission Indians in Riverside County.

⁸ Id.

Please see our July 10, 2020 proposed rule for more information about the topics summarized above.

Since our proposed rule, we have discovered that PM2.5 data excluded from the design values calculated at certain monitoring sites, and presented in Table 1 of our proposed rule, should not have been excluded.⁹ The monitoring sites for which 2019 design values may change once this issue is resolved include Rubidoux, Anaheim, South Long Beach, Los Angeles (Main Street), Mira Loma, Long Beach Route 710, and Ontario Route 60. This issue does not affect our determination that the South Coast failed to attain the 2006 PM2.5 NAAQS by the applicable attainment date because our determination needs only a single violating monitor over the relevant time period to be adequately supported, and the violating monitor at the Compton site is not affected by this issue. We will continue to work with the District on this issue as they develop the SIP revision triggered by the determination that we are finalizing today.

⁹ See email from Jennifer Williams, EPA Region IX, to Rene Bermudez, SCAQMD, dated August 5, 2020.

II. Public Comments and Responses

Our July 10, 2020 proposed rule provided a 30-day public comment period that closed on August 10, 2020. During this period, one anonymous comment letter was submitted by a member of the public. The comments in the letter are generally supportive of the proposed determination, but also raise issues that are outside of the scope of this rulemaking, including suggestions to the State and local governments in the South Coast for use in developing the revised plan. The beyond-the-scope comments do not relate to any of the specific topics discussed in the proposal, nor do they address the EPA's rationale for the proposed determination of failure to attain. Consequently, the EPA is not responding to the comments and is finalizing the action as proposed. The comment letter we received is included in the docket for this action.

III. Final Action

Under CAA sections 179(c)(1) and 188(b)(2), the EPA is taking final action to determine that the South Coast “Serious” PM2.5 nonattainment area has failed to attain the 2006 PM2.5 NAAQS by the applicable attainment date of December 31, 2019. In response to this determination, the State of California is required under 40 CFR 51.1003(c) to submit a revision to the SIP for the South Coast that, among other elements, demonstrates expeditious attainment of the NAAQS within the time period prescribed by 40 CFR 51.1004(a)(3) and that provides for annual reduction in the emissions of direct PM2.5 or a PM2.5 plan precursor pollutant within the area of not less than five percent until attainment.¹⁰ The SIP revision required under 40 CFR 51.1003(c) is due for submittal to the EPA no later than December 31, 2020.

¹⁰ 40 CFR 51.1003(c). The EPA defines PM2.5 plan precursor as those PM2.5 precursors required to be regulated in the applicable attainment plan and/or nonattainment new source review program. 40 CFR 51.1000.

We are also correcting an error in a previous rulemaking and restoring the designation of “Unclassifiable/Attainment” for the 2006 PM2.5 NAAQS for the lands of the Santa Rosa Band of Cahuilla Mission Indians in Riverside County in the appropriate table in 40 CFR 81.305.

IV. Statutory and Executive Order Reviews

This action in and of itself establishes no new requirements; it merely documents that air quality in the South Coast did not meet the 2006 PM2.5 NAAQS by the applicable attainment date. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide the EPA with the discretionary authority to address disproportionate human health or environmental effects with practical, appropriate, and legally permissible methods under Executive Order 12898 (59 FR 7629, February 16, 1994).

In addition, this action does not have tribal implications as specified by Executive Order 13175 (65 FR 67249, November 9, 2000), because the SIP obligations discussed herein do not apply to Indian tribes and thus this action will not impose substantial direct costs on tribal governments or preempt tribal law. Nonetheless, the EPA notified the tribes within the South Coast PM2.5 nonattainment area of the proposed action and offered formal consultation. No tribe requested formal consultation.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 16, 2020. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects

40 CFR Part 52

Environmental protection, Air pollution control, Ammonia, Incorporation by reference, Intergovernmental relations, Nitrogen dioxide, Particulate matter, Reporting and recordkeeping requirements, Sulfur oxides, Volatile organic compounds.

40 CFR Part 81

Environmental protection, Air pollution control, National parks, Wilderness areas.

Dated: August 28, 2020.
John Busterud,
Regional Administrator, Region IX.

For the reasons stated in the preamble, the EPA amend chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.247 is amended by adding paragraph (n) to read as follows:

§ 52.247 Control strategy and regulations: Fine Particle Matter.

* * * * *

(n) Determination of Failure to Attain: Effective October 16, 2020, the EPA has determined that the Los Angeles-South Coast Air Basin Serious PM2.5 nonattainment area failed to attain the 2006 24-hour PM2.5 NAAQS by the applicable attainment date of December 31, 2019. This determination triggers the requirements of CAA sections 179(d) and 189(d) for the State of California to submit a revision to the California SIP for the Los Angeles-South Coast Air Basin to the EPA by December 31, 2020. The SIP revision must, among other elements, demonstrate expeditious attainment of the 2006 24-hour PM2.5 NAAQS within the time period provided under CAA section 179(d) and that provides for annual reduction in the emissions of direct PM2.5 or a PM2.5 plan precursor pollutant within the area of not less than five percent until attainment.

PART 81—DESIGNATION OF AREAS FOR AIR QUALITY PLANNING PURPOSES

3. The authority citation for part 81 continues to read as follows:

Authority: 42 U.S.C. 7401 et seq.

Subpart C—Section 107 Attainment Status Designations

4. In § 81.305 amend the table entitled “California—2006 24-Hour PM2.5 NAAQS [Primary and Secondary]” under the heading “Los Angeles-South Coast Air Basin, CA” by revising the entry for “That part of the lands of the Santa Rosa Band of Cahuilla Mission Indians which is excluded from the Riverside County (part) nonattainment area” to read as follows:

§ 81.305 California.

* * * * *

California—24-Hour 2006 PM2.5 NAAQS
[Primary and Secondary]
Designated area | Designation ᵃ: Date ¹ | Designation ᵃ: Type | Classification: Date ² | Classification: Type
* * * * * * *
Los Angeles-South Coast Air Basin, CA:
* * * * * * *
That part of the lands of the Santa Rosa Band of Cahuilla Mission Indians which is excluded from the Riverside County (part) nonattainment area |  | Unclassifiable/Attainment |  |
* * * * * * *
ᵃ Includes Indian County located in each county or area, except as otherwise specified.
¹ This date is 30 days after November 13, 2009, unless otherwise noted.
² This date is July 2, 2014, unless otherwise noted.

* * * * *

[FR Doc. 2020-19588 Filed 9-15-20; 8:45 am]

BILLING CODE 6560-50-P